ENVIRONMENTAL PROTECTION AGENCY

[EPA-HQ-OECA-2013-0019; FRL-10018-81-OMS]

Information Collection Request Submitted to OMB for Review and Approval; Comment Request; NSPS for Electric Utility Steam Generating Units (Renewal)

AGENCY: Environmental Protection Agency (EPA).

ACTION: Notice.

SUMMARY: The Environmental Protection Agency (EPA) has submitted an information collection request (ICR), NSPS for Electric Utility Steam Generating Units (EPA ICR Number 1053.13, OMB Control Number 2060-0023), to the Office of Management and Budget (OMB) for review and approval in accordance with the Paperwork Reduction Act. This is a proposed extension of the ICR, which is currently approved through February 28, 2021. Public comments were previously requested via the Federal Register on May 12, 2020 during a 60-day comment period. This notice allows for an additional 30 days for public comments. A fuller description of the ICR is given below, including its estimated burden and cost to the public. An agency may neither conduct nor sponsor, and a person is not required to respond to a collection of information, unless it displays a currently valid OMB control number.

DATES: Additional comments may be submitted on or before February 10, 2021.

ADDRESSES: Submit your comments, referencing Docket ID Number EPA-HQ-OECA-2013-0019, to EPA online using www.regulations.gov (our preferred method), or by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The affected entities are subject to the General Provisions of the NESHAP (40 CFR part 60, subpart A), and any changes, or additions to these Provisions, are specified at 40 CFR part 60, subpart Da. Owners or operators of the affected facilities must submit a one-time only report of any physical or operational changes, initial performance tests, and periodic reports and results. Owners or operators are also required to maintain records of the occurrence and duration of any startup, shutdown, or malfunction in the operation of an affected facility, or any period during which the monitoring system is inoperative. Reports are required semiannually at a minimum. This information is being collected to assure compliance with 40 CFR part 60, subpart Da.

Form Numbers: None.

Respondents/affected entities: Owners or operators of electric utility steam generating units.

Respondent's obligation to respond: Mandatory (40 CFR part 60, subpart Da).

Estimated number of respondents: 732 (total).

Frequency of response: Semiannually, quarterly.

Total estimated burden: 171,000 hours (per year). Burden is defined at 5 CFR 1320.3(b).

Total estimated cost: $31,000,000 (per year), which includes $11,000,000 in annualized capital/startup and/or operation & maintenance costs.

Changes in the Estimates: There is a decrease in burden from the currently approved ICR due to a slight decrease in the number of respondents. Based on consultations with agency experts, we expect no new coal-fired boilers under subpart Da and the discontinued use of some existing coal-fired units within the industry, thus reducing the number of respondents required to conduct recordkeeping and reporting. This results in a reduction in labor burden and eliminates costs associated with initial notifications and capital/startup costs.

Courtney Kerwin,
Director, Regulatory Support Division.

[FR Doc. 2021-00246 Filed 1-8-21; 8:45 am]

BILLING CODE 6560-50-P